DEPARTMENT OF THE INTERIOR

National Park Service

Information Collection; Request for Extension

AGENCY: National Park Service, Interior.

ACTION: Notice of request for a currently approved information collection.

SUMMARY: In compliance with the Paperwork Reduction Act of 1995 and 5 CFR part 1320, the National Park Service (NPS) is announcing its intention to request an extension for a currently approved information collection (OMB Control Number 1024-0029) under 36 CFR part 51 relating to Concessioner Annual Financial Reports. This program will measure performance in meeting goals as required by the 1995 Government Performance and Results Act. Send comments on: (1) The need for the collection of information for the performance of the functions of the agency; (2) the accuracy of the agency's burden estimates; (3) ways to enhance the quality, utility and clarity of the information collection; (4) and ways to minimize the information collection burden on respondents, such as use of automated means of collection of the information.

DATES: Comments on this notice must be received no later than January 20, 2004.

ADDITIONAL INFORMATION OR COMMENTS: Contact Cynthia Orlando, Concession Program Manager, National Park Service, 1849 C Street, NW., (2410) Washington, DC 20240, or (202) 513-7144.

SUPPLEMENTARY INFORMATION: Title: Concessioner Annual Financial Report.

OMB Control Number: 1024-0029.

Expiration Date of Approval: December 31, 2003.

Type of Request: Extension of a currently approved information collection.

Abstract: The regulations at 36 CFR part 51 primarily implement title IV of the National Parks Omnibus Management Act of 1998 (Pub. L. 105-391 or the Act), which requires that the Secretary of the Interior exercise authority in a manner consistent with a reasonable opportunity for a concessioner to realize a profit on his operation as a whole commensurate with the capital invested and the obligations assumed. It also requires that franchise fees be determined with consideration to the opportunity for net profit in relation to both gross receipts and capital invested. The financial information being collected is necessary to provide insight into and knowledge of the concessioner's operation so that this authority can be exercised and franchise fees determined in a timely manner and without an undue burden on the concessioner.

Bureau Form Number: 10-356, 10-356a, 10-356b.

Frequency of Collection: Annually.

Description of Respondents: National Park Service concessioners.

Total Annual Responses: 500.

Estimate of Burden: Approximately 20 hours per response.

Total Annual Burden Hours: 3,800.

Total Non-hour Cost Burden: None.

All responses to this notice will be summarized and included in the request for OMB approval. All comments will also become a matter of public record. Copies of the information collection can be obtained from Cynthia L. Orlando, Concession Program Manager, National Park Service, Department of the Interior, 1849 C Street, NW., (2410), Washington, DC 20240.

Dated: October 15, 2003.
Leonard E. Stowe,
Acting Information Collection Clearance Officer, National Park Service, Washington Administrative Program Center.

[FR Doc. 03-28837 Filed 11-18-03; 8:45 am]

BILLING CODE 4310-70-M